ENVIRONMENTAL PROTECTION AGENCY

40 CFR Part 60

[EPA-HQ-OAR-2018-0696; FRL-9986-28-OAR]

RIN 2060-AU33

Adopting Subpart Ba Requirements in Emission Guidelines for Municipal Solid Waste Landfills; Correction

AGENCY: Environmental Protection Agency (EPA).

ACTION: Proposed rule; correction.

SUMMARY: This document corrects the preamble to a proposed rule published in the Federal Register on October 30, 2018, regarding the implementing regulations that govern the Emission Guidelines for Municipal Solid Waste (MSW) Landfills. The listed docket number in that preamble was incorrect. Any comments received prior to this correction have been redirected to the correct docket.

DATES: Comments. Comments must be received on or before December 14, 2018.

FOR FURTHER INFORMATION CONTACT: For questions about this proposed action, contact Andrew Sheppard, Sector Policies and Programs Division (E143-03), Office of Air Quality Planning and Standards, U.S. Environmental Protection Agency, Research Triangle Park, North Carolina 27711; telephone number: (919) 541-4161; fax number: (919) 541-0516; and email address: sheppard.andrew@epa.gov.

SUPPLEMENTARY INFORMATION: In proposed rule FR 2018-23700, in the issue of Tuesday, October 30, 2018, on page 54527, in the third column, correct the docket numbers listed in the ADDRESSES section to read:

“ADDRESSES: Comments. Submit your comments, identified by Docket ID No. EPA-HQ-OAR-2018-0696 at https://www.regulations.gov. Follow the online instructions for submitting comments. Once submitted, comments cannot be edited or removed from Regulations.gov. See SUPPLEMENTARY INFORMATION for detail about how the EPA treats submitted comments. Regulations.gov is our preferred method of receiving comments. However, the following other submission methods are also accepted:

• Email: a-and-r-docket@epa.gov. Include Docket ID No. EPA-HQ-OAR-2018-0696 in the subject line of the message.

• Fax: (202) 566-9744. Attention Docket ID No. EPA-HQ-OAR-2018-0696.

• Mail: To ship or send mail via the United States Postal Service, use the following address: U.S. Environmental Protection Agency, EPA Docket Center, Docket ID No. EPA-HQ-OAR-2018-0696, Mail Code 28221T, 1200 Pennsylvania Avenue NW, Washington, DC 20460.

• Hand/Courier Delivery: Use the following Docket Center address if you are using express mail, commercial delivery, hand delivery, or courier: EPA Docket Center, EPA WJC West Building, Room 3334, 1301 Constitution Avenue NW, Washington, DC 20004. Delivery verification signatures will be available only during regular business hours.”

In proposed rule FR 2018-23700, in the issue of Tuesday, October 30, 2018, on page 54528, make the following correction to the docket numbers listed in the SUPPLEMENTARY INFORMATION section. In the second paragraph of the section, in the first column, revise the docket number in the first sentence to say, “Docket. The EPA has established a docket for this rulemaking under Docket ID No. EPA-HQ-OAR-2018-0696.”

In the third paragraph of the section, in the first column, revise the docket number in the first sentence to say, “Instructions. Direct your comments to Docket ID No. EPA-HQ-OAR-2018-0696.”

In the sixth paragraph of the section, in the third column, revise the docket number in the last sentence to say, “Send or deliver information identified as CBI only to the following address: OAQPS Document Control Officer (C404-02), OAQPS, U.S. Environmental Protection Agency, Research Triangle Park, North Carolina 27711, Attention Docket ID No. EPA-HQ-OAR-2018-0696.”

Dated: November 2, 2018.
William L. Wehrum,
Assistant Administrator, Office of Air and Radiation.

[FR Doc. 2018-24581 Filed 11-8-18; 8:45 am]

BILLING CODE 6560-50-P